OFFICE OF PERSONNEL MANAGEMENT

45 CFR Part 800

RIN 3206-AN12

Patient Protection and Affordable Care Act; Establishment of the Multi-State Plan Program for the Affordable Insurance Exchanges; Correction

AGENCY: Office of Personnel Management.

ACTION: Final rule; correction.

SUMMARY: The Office of Personnel Management (OPM) is correcting a final rule that appeared in the Federal Register of February 24, 2015 (80 FR 9649). The document implementing modifications to the Multi-State Plan (MSP) Program based on the experience of the Program to date.

DATES: Effective March 26, 2015.

FOR FURTHER INFORMATION CONTACT: Cameron Stokes by telephone at (202) 606-2128, by FAX at (202) 606-4430, or by email at mspp@opm.gov.

SUPPLEMENTARY INFORMATION: In FR Doc. 2015-03421, appearing on page 9649 in the Federal Register of Tuesday, February 24, 2015, the following corrections are made:

1. On page 9655, in the third column, the heading “List of Subjects in 5 CFR part 800” is revised to read, “List of Subjects in 45 CFR part 800.”

2. On page 9655, in the third column, the last paragraph should be revised to read:

“Accordingly, the U.S. Office of Personnel Management is revising part 800 to title 45, Code of Federal Regulations, to read as follows:”

U.S. Office of Personnel Management.
Steve Hickman,
Regulatory Affairs, Office of the Executive Secretariat.

[FR Doc. 2015-07330 Filed 3-26-15; 4:15 pm]

BILLING CODE 6325-64-P